DEPARTMENT OF THE INTERIOR

Bureau of Ocean Energy Management

[OMB Number 1010-0072]

Information Collection; Prospecting for Minerals Other Than Oil, Gas, and Sulphur on the Outer Continental Shelf; Submitted for OMB Review; Comment Request

ACTION: 30-day notice.

SUMMARY: To comply with the Paperwork Reduction Act of 1995 (PRA), we are notifying the public that we have submitted to OMB an information collection request (ICR) to renew approval of the paperwork requirements in the regulations under Prospecting for Minerals Other than Oil, Gas, and Sulphur on the Outer Continental Shelf, and, in particular, that we are revising form BOEM-0134 to clarify requirements for environmental compliance.

DATES: Submit written comments by March 22, 2012.

ADDRESSES: Submit comments by either fax (202) 395-5806 or email (OIRA_DOCKET@omb.eop.gov) directly to the Office of Information and Regulatory Affairs, Office of Management and Budget (OMB), Attention: Desk Officer for the Department of the Interior (1010-0072). Please also submit a copy of your comments by either email to arlene.bajusz@boem.gov or mail to Arlene Bajusz, Information Collection Clearance Officer, Bureau of Ocean Energy Management, MS HM-3127, 381 Elden Street, Herndon, Virginia 20170-4817. Please reference ICR 1010-0072 in your comment and include your name and return address.

FOR FURTHER INFORMATION CONTACT: Arlene Bajusz, Office of Policy, Regulations, and Analysis at arlene.bajusz@boem.gov or (703) 787-1025. You may review the ICR online at http://www.reginfo.gov. Follow the instructions to review Department of the Interior collections under review by OMB.

SUPPLEMENTARY INFORMATION:

OMB Control Number: 1010-0072.

Title: 30 CFR Part 580, Prospecting for Minerals Other than Oil, Gas, and Sulphur on the Outer Continental Shelf.

Form: BOEM-0134.

Abstract: The Outer Continental Shelf (OCS) Lands Act, as amended (43 U.S.C. 1331 et seq. and 43 U.S.C. 1801 et seq.), authorizes the Secretary of the Interior to prescribe rules and regulations to administer leasing of mineral resources on the OCS. An amendment to the OCS Lands Act (Pub. L. 103-426) authorizes the Secretary to negotiate agreements (in lieu of the previously required competitive bidding process) for the use of OCS sand, gravel, and shell resources for specified types of public uses. Such specified uses will support construction of governmental projects for beach nourishment, shore protection, and wetlands enhancement or constitute a project authorized by the Federal Government.

Section 1340 states that “* * * any person authorized by the Secretary may conduct geological and geophysical [G&G] explorations in the outer Continental Shelf, which do not interfere with or endanger actual operations under any lease maintained or granted pursuant to this Act, and which are not unduly harmful to aquatic life in such area.” Section 1352 further requires that certain costs be reimbursed to the parties submitting required G&G information and data. Regulations implementing these responsibilities are in 30 CFR Part 580 and are the responsibility of the Bureau of Ocean Energy Management (BOEM).

The Independent Offices Appropriations Act (31 U.S.C. 9701), the Omnibus Appropriations Bill (Pub. L. 104-133, 110 Stat. 1321, April 26, 1996), and the OMB Circular A-25, authorize Federal agencies to recover the full cost of services that confer special benefits. Prospecting permits are subject to cost recovery under Department of the Interior's implementing policy, and BOEM regulations specify service fees for these requests.

We use the information collected under these regulations to: (1) Ensure there is no environmental degradation, personal harm or unsafe operations and conditions; (2) ensure activities do not damage historical or archaeological sites or interfere with other uses; (3) analyze and evaluate preliminary or planned drilling activities; (4) monitor progress and activities in the OCS; (5) acquire G&G data and information collected under a Federal permit offshore; (6) determine eligibility for reimbursement from the Government for certain costs; and (7) determine the qualifications of applicants. BOEM also uses the information collected to understand the G&G characteristics of hard mineral-bearing physiographic regions of the OCS.

We will protect information considered proprietary according to 30 CFR 580.70, “What data and information will be protected from public disclosure?” 30 CFR 550.197, “Data and information to be made available to the public or for limited inspection,” 30 CFR part 552, “OCS Oil and Gas Information Program,” and the Freedom of Information Act (5 U.S.C. 552) and its implementing regulations (43 CFR 2). No items of a sensitive nature are collected. Responses are mandatory.

Frequency: On occasion; and as required in the permit.

Description of Respondents: Permittee(s).

Estimated Reporting and Recordkeeping Hour Burden: The estimated annual hour burden for this collection is 128 hours. The following table details the individual components and estimated hour burdens. In calculating the burdens, we assumed that respondents perform certain requirements in the normal course of their activities. We consider these to be usual and customary and took that into account in estimating the burden.

Citation 30 CFR part 580 | Reporting and recordkeeping requirements | Non-hour cost burden: Hour burden | Non-hour cost burden: Average Number of annual responses | Non-hour cost burden: Annual burden hours
Subpart B
10; 11(a); 12; 13; Permit Form | Apply for permit (Form BOEM-0134) to conduct prospecting or G&G scientific research activities, including prospecting/scientific research plan and environmental assessment or required drilling plan | 10 | 3 permits | 30
|  | $2,012 permit application fee × 3 permits = $6,036
11(b); 12(c) | File notice to conduct scientific research activities related to hard minerals, including notice to BOEM prior to beginning and after concluding activities | 8 | 3 notices | 24
Subtotal |  |  | 6 responses | 54
Subpart C
21(a) | Report to BOEM if hydrocarbon/other mineral occurrences or environmental hazards are detected or adverse effects occur | 1 | 1 report | 1
22 | Request approval to modify operations | 1 | 1 request | 1
23(b) | Request reimbursement for expenses for BOEM inspection | 1 | 3 requests | 3
24 | Submit status and final reports on specified schedule | 8 | 4 reports | 32
28 | Request relinquishment of permit. | 1 | *1 Relinquishment | *1
31(b); 73 | Governor(s) of adjacent State(s) submissions to BOEM: Comments on activities involving an environmental assessment; request for proprietary data, information, and samples; and disclosure agreement | 1 | 3 submissions | 3
33, 34 | Appeal penalty, order, or decision—burden exempt under 5 CFR 1320.4(a)(2), (c) |  |  | 0
Subtotal |  |  | 13 responses | 41
Subpart D
40; 41; 50; 51; Permit Form | Notify BOEM and submit G&G data/information collected under a permit and/or processed by permittees or 3rd parties, including reports, logs or charts, results, analyses, descriptions, etc | 6 | 3 submissions | 18
42(b); 52(b) | Advise 3rd party recipient of obligations. Part of licensing agreement between parties; no submission to BOEM | ⅓ | 3 notices | 1
42(c), 42(d); 52(c), 52(d) | Notify BOEM of 3rd party transactions | 1 | 1 notice | 1
60; 61(a) | Request reimbursement for costs of reproducing data/information & certain processing costs | 1 | 1 request * | *1
72(b) | Submit in not less than 5 days comments on BOEM's intent to disclose data/information | 1 | 3 responses | 3
72(d) | Contractor submits written commitment not to sell, trade, license, or disclose data/information | 1 | 3 submissions | 3
Subtotal |  |  | 14 responses | 27
General
Part 580 | General departure and alternative compliance requests not specifically covered elsewhere in part 580 regulations | 2 | 1 request | 2
Permits ** | Request extension of permit time period | 1 | 1 extension | 1
Permits ** | Retain G&G data/information for 10 years and make available to BOEM upon request | 1 | 3 respondents | 3
Subtotal |  |  | 5 responses | 6
Total Burden |  |  | 38 responses | 128
|  |  | $6,036 Non-Hour Cost Burdens
* Note: No requests received for many years. Minimal burden for regulatory (PRA) purposes only.
** These permits are prepared by BOEM and sent to respondents; therefore, the forms themselves do not incur burden hours.

Estimated Reporting and Recordkeeping Non-Hour Cost Burden: We have identified one non-hour paperwork cost burden for this collection: A $2,012 permit application fee.

Public Disclosure Statement: The PRA (44 U.S.C. 3501, et seq.) provides that an agency may not conduct or sponsor a collection of information unless it displays a currently valid OMB control number. Until OMB approves a collection of information, you are not obliged to respond.

Comments: On August 24, 2011, we published a Federal Register notice (76 FR 52963) announcing that we would submit this ICR to OMB for approval. The notice provided the required 60-day comment period. We received two comments in response. One did not pertain to the information collection, and the other expressed support for competitive bidding processes.

In addition, § 580.80 provides the OMB control number for the information collection requirements imposed by the 30 CFR 580 regulation, informs the public that they may comment at any time on the collections of information, and provides the address to which they should send comments.

We again request comments on this information collection on: (1) Whether or not the collection of information is necessary, including whether or not the information is useful; (2) the accuracy of our estimate of the burden for this collection of information; (3) ways to enhance the quality, utility, and clarity of the information to be collected; and (4) ways to minimize the burden on the respondents.

Public Availability of Comments: Before including your address, phone number, email address, or other personal identifying information in your comment, you should be aware that your entire comment—including your personal identifying information—may be made publicly available at any time. While you can ask us in your comment to withhold your personal identifying information from public review, we cannot guarantee that we will be able to do so.

Dated: February 13, 2012.
Deanna Meyer-Pietruszka,
Chief, Office of Policy, Regulations, and Analysis.

[FR Doc. 2012-3853 Filed 2-17-12; 8:45 am]

BILLING CODE 4310-VH-P